ENVIRONMENTAL PROTECTION AGENCY

40 CFR Part 60

[EPA-HQ-OAR-2018-0851; FRL-9996-21-OAR]

RIN 2060-AU27

Standards of Performance for Stationary Compression Ignition Internal Combustion Engines

Correction

In rule document 2019-14372, appearing on pages 32084 through 32088, in the issue of Friday, July 5, 2019 make the following corrections:

1. On page 32084, in the document heading, “FRL-9992-21-OAR” should read “FRL-9996-21-OAR”.

2. On page 32088, in the second column, in the final paragraph, on the final line, “p.m.” should read “PM”.

[FR Doc. C1-2019-14372 Filed 7-25-19; 8:45 am]

BILLING CODE 1300-01-D